DEPARTMENT OF HEALTH AND HUMAN SERVICES

Administration for Children and Families

Submission for OMB Review; Comment Request

Title: Adoption and Foster Care Analysis and Reporting System (AFCARS).

OMB No.: 0970-0422.

Description: Under the Paperwork Reduction Act of 1995 (PRA) (44 U.S.C. 3501-3520), federal agencies must obtain approval from the Office of Management and Budget (OMB) for each collection of information they conduct or sponsor. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, the Administration for Children and Families (ACF) is publishing this notice that summarizes the following proposed collection of information for public comment:

Title of Collection: Adoption and Foster Care Analysis and Reporting System (AFCARS).

OMB Control Number: 0970-0422, expiration date February 28, 2018.

Type of Review: An extension of an existing information collection.

Respondents/Affected Public: Title IV-E State, Local, and Tribal Child Welfare Agencies.

There have been no revisions to the existing AFCARS data collection found under federal regulations at 45 CFR 1355.40. The requirements for AFCARS being addressed by this notice are scheduled to end on September 30, 2019. ACF is requesting that OMB approve a three-year renewal to cover the period when States and IV-E Tribes must continue submitting the existing requirements.

On December 14, 2016, a new set of requirements (45 CFR 1355.41-44) for AFCARS reporting was published as a final rule and will go into effect on October 1, 2019. At that time, the requirements covered by this notice (45 CFR 1355.40) will be replaced by the new regulatory requirements. The requirements for the updated AFCARS requirements found in federal regulations at 45 CFR 1355.41-44 are covered by a different OMB control number (0970-0457) and are not addressed by this Notice.

SUPPLEMENTARY INFORMATION: In addition to this Notice, Section 3506(c)(2)(A) of the PRA (44 U.S.C. 3506(c)(2)(A)) requires Federal agencies to provide a 60-day notice in the Federal Register concerning each proposed collection of information, including each proposed extension or update of an existing collection of information, before submitting the collection to OMB for approval. In compliance with this requirement, ACF published a notice in the Federal Register on June 30, 2017 and invited comment on: (1) Whether the proposed collection of information is necessary for the proper performance of ACF's functions, including whether the information will have practical utility; (2) the accuracy of ACF's estimate of the burden of the proposed collection of information, including the validity of the methodology and assumptions used; (3) ways to enhance the quality, utility, and clarity of the information to be collected; and (4) ways to minimize the burden of the collection of information on respondents, including through the use of automated collection techniques when appropriate, and other forms of information technology for the existing AFCARS reporting that is required by States and Tribes.

ACF received 71 comment letters to the first notice. No substantive comments were received regarding the existing AFCARS data collection in 45 CFR 1355.40 under OMB Number 0970-0457. Instead, commenters provided feedback on the new AFCARS data collection under 45 CFR 1355.41-.47 to be implemented October 1, 2019. Commenters addressed support for the collection of information under the Indian Child Welfare Act and other areas covered by the new requirements. ACF received no comment on the specific burden hours for the existing AFCARS requirements undergoing renewal.

AFCARS is mandated by 42 U.S.C. 679. The regulation at 45 CFR 1355.40 and the appendices to 45 CFR 1355 set forth the requirements of section 479 of the Social Security Act for the collection of uniform, reliable information on children who are under the responsibility of the State or Tribal title IV-B/IV-E agency for placement, care, and adoption. The AFCARS requirements under 45 CFR 1355.40 have been in effect since October 1, 1993 for States. In 2009, section 479B(b) of the Act was enacted authorizing direct Federal funding of Indian Tribes, Tribal organizations, and Tribal consortia that choose to operate a foster care, adoption assistance and, at Tribal option, a kinship guardianship assistance program under title IV-E of the Act. The data collected informs State/Tribal/Federal policy decisions, program management, and responses to Congressional and Departmental inquiries.

Respondents: Title IV-E State and Tribal Child Welfare Agencies.

Estimated Total Annual Burden Hours
Instrument | Number of respondents | Number of responses per respondent | Average burden hours per response | Total burden hours
AFCARS | 59 | 2 | 2,188 | 258,215
Estimated Total Annual Burden Hours |  |  |  | 258,215

Additional Information: Copies of the regulation containing the data elements may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Reports Clearance Officer.

[FR Doc. 2017-22720 Filed 10-19-17; 8:45 am]

BILLING CODE 4184-25-P